MARINE MAMMAL COMMISSION

Sunshine Act Meetings

TIME AND DATE: The Marine Mammal Commission will hold a working meeting from 1:00 p.m. to 5:00 p.m. on Thursday 25 July 2024, with a break scheduled from 3:00-3:30 p.m. Members of the Committee of Scientific Advisors may participate in their individual capacities, but this is not a meeting of the Committee of Scientific Advisors on Marine Mammals for purposes of the Federal Advisory Committee Act. All portions of the meeting will be open to the public by Zoom Webinar.

PLACE: The Commissioners will convene remotely. Although a core of staff members will assemble for the meeting at the Marine Mammal Commission's office, 4340 East-West Hwy, Room 700, Bethesda, Maryland 20814, no access to the office will be available for in-person participation by the public.

STATUS: All portions of the meeting will be open to the public via a Zoom Webinar. Those interested in participating will be required to register prior to joining the meeting at: https://www.zoomgov.com/webinar/register/WN_Roke2ffuQ2ykUl4xLgSUVg. Public participation will be allowed as time permits and as determined to be desirable by the Chair.

The meeting agenda and webinar registration details will be posted on the Commission's website (https://www.mmc.gov/events-meetings-and-workshops).

MATTERS TO BE CONSIDERED: The Commission intends to discuss and, as appropriate, formulate recommendations and make decisions regarding three subject areas—

• The focus of its FY 2025 Request for Proposals under the Commission's research grants program;

• A retrospective examination of the 1994 Amendments to the Marine Mammal Protection Act and additional actions needed to implement them; and

• Commission efforts to understand and address impacts of climate change on marine mammals.

CONTACT PERSON FOR MORE INFORMATION: Brady O'Donnell, Communications and Legislative Affairs Officer, Marine Mammal Commission, 4340 East-West Highway, Room 700, Bethesda, MD 20814; (301) 504-0087; email: bodonnell@mmc.gov.

Dated: July 2, 2024.
Peter O. Thomas,
Executive Director.

[FR Doc. 2024-15195 Filed 7-5-24; 4:15 pm]

BILLING CODE 6820-31-P